DEPARTMENT OF TRANSPORTATION

Federal Aviation Administration

Programmatic Environmental Impact Statement: Launches and Reentries Under an Experimental Permit

AGENCY: Federal Aviation Administration, Office of Commercial Space Transportation, DOT.

ACTION: Notice of intent to prepare a Programmatic Environmental Impact Statement.

SUMMARY: The Commercial Space Launch Amendments Act of 2004 (CSLAA), enacted on December 23, 2004, directs the Secretary of Transportation and, through delegations, the Federal Aviation Administration (FAA) Office of Commercial Space Transportation, to establish an experimental permit regime for developmental reusable suborbital rockets. The intent of Congress for the experimental permit regime is to reduce the regulatory burden on developers of reusable suborbital rockets. Congress intended that, “[a]t a minimum, permits should be granted more quickly and with fewer requirements than licenses.” (H. Rep. 108.429 Sec. VII) To address the intent of Congress and meet a reduced timeline for issuing permits, a congressionally mandated 120 day timeline, the FAA is preparing a Programmatic Environmental Impact Statement (PEIS) to evaluate the impacts of launches and reentries conducted under an experimental permit. The intent of the PEIS is to facilitate the development of a permit application package and the subsequent environmental review by FAA, and to ensure that the issuance of an experimental permit is consistent with the FAA's mission of protecting public health and safety, safety of property, and the national security and foreign policy interests of the United States.

The proposed action for this PEIS is to issue experimental permits for the launch and reentry of reusable suborbital rockets. Suborbital rocket means a vehicle, rocket-propelled in whole or in part, intended for flight on a suborbital trajectory, the thrust of which is greater than its lift for the majority of the rocket-powered portion of its ascent. Suborbital trajectory means the intentional flight path of a launch vehicle, reentry vehicle, or any portion thereof, whose vacuum instantaneous impact point does not leave the surface of the Earth.

The FAA will prepare the PEIS in accordance with the National Environmental Policy Act (NEPA), the Council on Environmental Quality (CEQ) NEPA regulations (40 Code of Federal Regulations [CFR] Parts 1500-1508), and the FAA procedures for implementing NEPA in FAA Order 1050.1E.

DATES: The FAA invites interested agencies, organizations, Native American tribes, and members of the public to submit comments or suggestions to assist in identifying significant environmental issues, and in determining the appropriate scope of the PEIS. The public scoping period starts with the publication of this notice in the Federal Register and will continue until May 19, 2006. The FAA will consider all comments received or postmarked by May 19, 2006 in defining the scope of the Draft PEIS. Written comments postmarked or sent after this date will be considered to the degree practicable.

If an agency, organization, or a member of the general public desires to have a scoping meeting at a specific location, please contact Stacey M. Zee at the address listed in the FOR FURTHER INFORMATION CONTACT section of this Notice.

ADDRESSES: Written comments or suggestions on the scope and content of the PEIS and requests to receive a copy of the Draft PEIS when it is issued should be directed via mail to: PEIS Experimental Permits, c/o ICF Consulting, 9300 Lee Highway, Fairfax VA 22031; via e-mail at PEIS-Experimental-Permits@icfconsulting.com; or via fax at 703-934-3951. The subject line of e-mails or faxes should be labeled “Scoping for the Experimental Permits PEIS.”

FOR FURTHER INFORMATION CONTACT: For information on the proposed project or to request a location for a scoping meeting, contact Stacey M. Zee via mail at: Federal Aviation Administration, Office of Commercial Space Transportation, Room 331, 800 Independence Avenue, SW., Washington, DC 20591; via phone at (202) 267-9305; via fax at (202) 267-5463; or via e-mail at Stacey.Zee@faa.gov. Additional information may also be found on the PEIS Web site at http://ast.faa.gov/lrra/PEISSite.htm.

SUPPLEMENTARY INFORMATION:

Background and Need for Agency Action

Under Title 49, U.S. Code, Subtitle IX, Sections 70101-70121, Commercial Space Launch Activities, the FAA oversees, licenses, and regulates both launches and reentries of launch and reentry vehicles, and the operation of launch and reentry sites when carried out by U.S. citizens or within the United States. (49 U.S.C. 70104, 70105) Chapter 701 directs the FAA to exercise this responsibility consistent with public health and safety, safety of property, and the national security and foreign policy interests of the United States; and to encourage, facilitate, and promote commercial space launch and reentry by the private sector. (49 U.S.C. 70103, 70105)

Under the CSLAA, which was signed into law on December 23, 2004, FAA can issue experimental permits rather than licenses for the launch and reentry of reusable suborbital rockets. Previously, the FAA could only issue a license for these operations. Congress directed that experimental permits could be issued for:

• Research and development to test new design concepts, new equipment, or new operating techniques;

• Showing compliance with requirements as part of the process for obtaining a license; or

• Crew training prior to obtaining a license for a launch or reentry using the design of the rocket for which the permit would be issued.

The CSLAA of 2004 also directs the FAA to make a determination on issuing an experimental permit within 120 days of receiving a complete application. The FAA currently has 180 days to make a license determination. Because of this reduced review time, the FAA is seeking to clearly define the requirements for an experimental permit application in the proposed rulemaking and streamline the environmental review process for such applications in the future. The Notice of Proposed Rulemaking (NPRM) that is being issued concurrent with this Notice of Intent specifies the proposed application requirements for an operator of a reusable suborbital rocket to obtain an experimental permit and the proposed operating requirements and restrictions on launch and reentry of a reusable suborbital rocket operating under a permit.

The FAA is preparing this PEIS to examine the environmental impacts of reusable suborbital rockets operating under an experimental permit. The PEIS will provide information and analyses common to all reusable suborbital rockets, will facilitate tiering of subsequent environmental assessments and environmental impact statements, and will allow the environmental analysis of an individual permit applicant to focus on the environmental effects specific to their permit application. The FAA's intent is to focus the scope of future environmental analyses and improve the efficiency of acting on individual permit applications.

Proposed Action

The proposed action for this PEIS is to issue experimental permits for the launch and reentry of reusable suborbital rockets, develop the environmental criteria for issuing those permits, and prepare documentation that can be referenced or tiered from in future applications. The proposed action includes four conceptual reusable suborbital rockets based on the type of take-off as follows:

1. A vertical take-off suborbital rocket,

2. A combination jet and rocket powered horizontal take-off suborbital rocket,

3. A horizontal take-off suborbital rocket, and

4. A suborbital rocket that requires a support aircraft or balloon to transport the rocket to altitude.

For each type of suborbital rocket, a range of propellants will be analyzed including those used in liquid and hybrid rocket engines. In addition, the type of landing, vertical or horizontal, will be analyzed in the PEIS. Under the proposed action, the launch and reentry would occur from an FAA licensed launch location. FAA will evaluate the impacts associated with each conceptual vehicle from the following locations: Mojave Airport, Mojave, California; California Spaceport, Vandenberg Air Force Base, California; Spaceport Florida, Cape Canaveral Air Force Station, Florida; Mid-Atlantic Regional Spaceport, Wallops Flight Facility, Virginia; the proposed Oklahoma Spaceport, Burns Flat, Oklahoma; and the proposed Southwest Regional Spaceport, Upham, New Mexico. Based on comments received during the scoping period and the advancement of the NPRM, the FAA may propose additional suborbital rocket concepts, propellant types, and locations for impacts analysis.

Under the proposed action, the FAA assumes that up to 50 launch and landing events per conceptual reusable suborbital rocket would occur annually, and no more than 100 annual launch and landing events would occur at any one location. The proposed action assumes that operations would take place from existing commercial launch sites and that no new infrastructure (e.g., buildings, runways, launch pads) would be required. Therefore, infrastructure construction and use are not included in the scope of the PEIS.

Alternatives

Other than the proposed action and the no action alternative, the FAA does not have any defined alternatives to consider, at this time. Based on the comments received during the scoping period and the advancement of the NPRM, the FAA may consider additional alternatives based on its discretion in implementing the CSLAA. The FAA will assess alternatives in accordance with the CEQ NEPA regulations (40 CFR 1502.14).

Identification of Environmental Issues

The purpose of this notice is to solicit comments and suggestions for consideration in the preparation of the PEIS. As background for public comment, this notice contains a list of potential environmental issues that the FAA has tentatively identified for analysis. This list, which the FAA developed from preliminary review of the experimental permit regime and similar projects, is not intended to be all-inclusive or to imply any predetermination of impacts. Instead, it is presented to facilitate public comment on the planned scope and content of the PEIS. Additions to or deletions from this list may occur as a result of the public scoping process. The preliminary list of potential environmental issues that may be analyzed in the PEIS includes the following:

1. Air Quality—the effects of emissions associated with launch and reentry operations,

2. Water Resources—the effects of emissions of launch and reentry operations on water resources,

3. Biological Resources—the effects of launch and reentry operations on terrestrial and aquatic plants and animals, including state- and federally-listed threatened and endangered species, and other protected resources (e.g., wetlands and essential fish habitat),

4. Public Health and Safety—the effects of launch and reentry operations on public health and safety, including potential incidental spills and releases of hazardous or toxic materials,

5. Socioeconomics—the effects of a potential influx of workers and the potential increase in demand for local services,

6. Cultural Resources—the potential effects on historical, archaeological, and culturally important sites, and

7. Environmental Justice—the potential for disproportionately high and adverse effects on populations protected under Executive Order 12898.

Scoping Process

To ensure that all issues related to this proposal are addressed, the FAA will conduct an open process to define the scope and content of the PEIS. Interested agencies, organizations, Native American tribes, and members of the public are encouraged to submit comments or suggestions concerning the content of the PEIS, issues and impacts to be addressed in the PEIS, and alternatives that should be considered. Written comments should be sent to the FAA as described in the ADDRESSES section above.

Draft PEIS Schedule and Availability

The Draft PEIS is scheduled to be issued in the fall of 2006. The availability of the Draft PEIS, the methods by which the Draft PEIS will be made available for public review, and dates for public hearings soliciting comments on the PEIS will be announced in the Federal Register. Comments on the Draft PEIS will be considered in preparing the Final PEIS.

Those interested parties who do not wish to submit comments at this time, but who would like to receive a copy of the Draft PEIS and other project materials, should follow the guidance provided in the ADDRESSES section of this notice.

Issued in Washington, DC, on March 20, 2006.
Patricia G. Smith,
Associate Administrator for Commercial Space Transportation.

[FR Doc. E6-4373 Filed 3-24-06; 8:45 am]

BILLING CODE 4910-13-P